DEPARTMENT OF JUSTICE

Notice of Lodging Proposed Consent Decree

In accordance with Departmental Policy, 28 CFR 50.7, notice is hereby given that a proposed Consent Decree in United States v. Duarte Nursery, Inc. and John Duarte, Civil Action Number 2:13-cv-02095-KJM-DB, was lodged with the United States District Court for the Eastern District of California, Sacramento District, on August 15, 2017.

This proposed Consent Decree concerns an answer and counterclaim filed by the United States on May 7, 2014, against Duarte Nursery, Inc. and John Duarte, pursuant to Sections 301(a) and 309(d) of the Clean Water Act, 33 U.S.C. 1311(a) and 1319(d), to obtain injunctive relief from and impose civil penalties against the Counterclaim-Defendants for violating the Clean Water Act by discharging pollutants without a permit into waters of the United States. The proposed Consent Decree resolves these allegations by requiring the Counterclaim-Defendants to restore the impacted areas and/or perform mitigation and to pay a civil penalty.

The Department of Justice will accept written comments relating to this proposed Consent Decree for thirty (30) days from the date of publication of this Notice. Please address comments to Andrew Doyle, Senior Attorney, United States Department of Justice, Environment and Natural Resources Division, Environmental Defense Section, Post Office Box 7611, Washington, DC 20044, and refer to United States v. Duarte Nursery, Inc. and John Duarte, DJ # 90-5-1-4-19984.

The proposed Consent Decree may be examined at the Clerk's Office, United States District Court for the Eastern District of California, Sacramento District, 501 I Street, Room 4-200, Sacramento, CA 95814. In addition, the proposed Consent Decree may be examined electronically at http://www.justice.gov/enrd/consent-decrees.

Cherie L. Rogers,
Assistant Section Chief, Environmental Defense Section, Environment and Natural Resources Division.

[FR Doc. 2017-17634 Filed 8-18-17; 8:45 am]

BILLING CODE 4410-15-P